DEPARTMENT OF COMMERCE

Foreign-Trade Zones Board

[Order No. 1137]

Grant of Authority for Subzone Status; Conoco, Inc., (Oil Refinery Complex), Ponca City, Oklahoma

Correction

In notice document 01-1682 beginning on page 6582 in the issue of Monday, January 22, 2001, make the following correction:

On page 6582, in the third column, in the third paragraph, in the fifth line “160E” should read “106E”.

[FR Doc. C1-1682 Filed 2-7-01; 8:45 am]

BILLING CODE 1505-01-D

DEPARTMENT OF TRANSPORTATION

Federal Aviation Administration

14 CFR Part 39

[Docket No. 98-CE-121-AD; Amendment 39-12036; AD 2000-25-02]

RIN 2120-AA64

Airworthiness Directives; American Champion Aircraft Corporation 7, 8, and 11 Series Airplanes

Correction

In rule document 00-31450 beginning on page 78905 in the issue of Monday, December 18, 2000, make the following correction:

§39.13 [Corrected]

On page 78911, in §39.13(d), in the second column of the table, in the fourth line, after “AD)” add “or within the next 13 calendar months after January 19, 2001 (the effective date of this AD)”ÿ7E.

[FR Doc. C0-31450 Filed 2-7-01; 8:45 am]

BILLING CODE 1505-01-D

DEPARTMENT OF TRANSPORTATION

Federal Aviation Administration

14 CFR Parts 413, 415, and 417

[Docket No. FAA-2000-7953; Notice No. 00-10]

RIN 2120-AG37

Licensing and Safety Requirements for Launch

Correction

In proposed rule document 00-24472 beginning on page 63922 in the issue of Wednesday, October 25, 2000, make the following corrections:

1. On page 63922, in the first column, the docket number is corrected to read as set forth above.

§417.233 [Corrected]

2. On page 64022, in the second column, in §417.233(c)(5)(ii), in the fourth line, after “the” add “ĖḞĠ”.

Appendix A to 417 [Corrected]

3. On page 64043, in the second column, in paragraph (ii), in the fifth line, “1 x 100−5” should read “1 x 10−5”.

4. On page 64044, in the second column, in paragraph (7), in the eighth line, “(i.e. log10)Pc” should read “(i.e. log10(Pc”).

Appendix B to Part 417 [Corrected]

5. On page 64051, in the first column, in the value description of σy, “diviation” should read “deviation ”.

Appendix C to Part 417 [Corrected]

6. On page 64058, table C417-1 is corrected to read as set forth below:

Table C417-1, Illustrative Simulation Runs Required to Determine Drag Impact Point Dispersions for a Three Stage Launch Vehicle
Trajectory simulation runs Stage performance error parameters | Dispersion being determined: Stage 1 | Dispersion being determined: Stage 2 | Dispersion being determined: Stage 3
Stage 1 errors | X ¹ |  |
Stage 1 errors, Stage 2 nominal |  | X |
Stage 1 nominal, Stage 2 errors |  | X |
Stage 1 errors, Stage 2 nominal, Stage 3 nominal |  |  | X
Stage 1 nominal, Stage 2 errors, Stage 3 nominal |  |  | X
Stage 1 nominal, Stage 2 nominal, Stage 3 errors |  |  | X
¹ An X in a given stage column indicates that the noted simulation runs are required to determine the dispersion for that stage.

Appendix E to Part 417 [Corrected]

7. On page 64091, in table E417.25-3, under the “Quality” heading, after each “100” entry, add a “%” sign.

8. On page 64094, the second table heading, “Table E417.25-75” should read “Table E417.25-7”.

9. On page 64096, in table E417.27-2, for the entry “Performance Verification” remove the “X” in each column.

10. On the same page, in the same table, for the entry “Non-Operating Environment Tests” remove the “X ” in each column.

11. On page 64099, in table E417.27-5, for the entry “High Temperature Storage”, remove the “X” in the column named “1 year⁴”.

12. On page 64101, in table E417.29-2, for the entry “Firing Test”, in the Reference column, “E417.(g)” should read “E417.29(g)”.

13. On page 64104, in table E417.31-2, for the entry “Non-Operating Environment Tests and Operating Environment Tests”, remove the “X” in the third column.

14. On the same page, in table E417.31-3, under the “Quality” heading, before each “100%” entry, remove the footnote reference “¹”.

15. On page 64105, in table E417.31-4, for the entry “Low Temperature”, remove the “5” in the column named “105 ”.

16. On page 64107, in table E417.33-3, for the entry “Component Examination”, remove the “X” in each column.

17. On page 64109, in table E417-37-1, under the entry “Shock”, add an “X” in the “Quantity” column.

[FR Doc. C0-24472 Filed 2-7-01; 8:45 am]

BILLING CODE 1505-01-D